POSTAL SERVICE

39 CFR Part 111

Priority Mail Flat-Rate Box

AGENCY: Postal Service.

ACTION: Final rule.

SUMMARY: This final rule sets forth the Domestic Mail Manual (DMM) standards adopted by the Postal Service to implement the Priority Mail flat-rate box experiment pursuant to the October 27, 2004, Decision of the Governors of the Postal Service approving the Recommend Decision of the Postal Rate Commission in its Docket No. MC2004-2. The recommended decision is based on the Stipulation and Agreement that represented a negotiated settlement of the issues in that docket.

EFFECTIVE DATE: This final rule is effective at 12:01 a.m. on November 20, 2004.

FOR FURTHER INFORMATION CONTACT: Rick Klutts, 202-268-7268.

SUPPLEMENTARY INFORMATION: The Postal Service is conducting the Priority Mail flat-rate box experiment to enhance customer convenience through the introduction of two flat-rate box options for Priority Mail. Many Postal Service customers, especially individual consumers and small businesses, are seeking simplicity and convenience when sending a package. Much like the Priority Mail flat-rate envelope offered since 1991, the flat-rate boxes will afford customers a single, predetermined rate, regardless of the actual weight or destination of the mailpiece. The simplified transaction with these two flat-rate boxes represents an opportunity for the Postal Service to enhance value for customers.

New Domestic Mail Manual (DMM) G995 contains rates, eligibility criteria, standards, and classification information about the two-year Priority Mail flat-rate box experiment.

For the reasons discussed above, the Postal Service adopts the following amendments to the Domestic Mail Manual, which is incorporated by reference in the Code of Federal Regulations (see 39 CFR 111).

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the DMM as set forth below:

G General Information

* * * * *

G900 Experimental Classification and Rate Filings

* * * * *

[Add new G995 to read as follows:]

G995 Priority Mail Flat-Rate Box

1.0 ELIGIBILITY

1.1 Description

The standards in G995 apply to each addressed USPS-produced Priority Mail flat-rate box (Postal Item Numbers: OFRB1 and OFRB2).

1.2 Rate Application

Each USPS-produced Priority Mail flat-rate box is charged the experimental Priority Mail flat-rate box rate regardless of weight or destination.

1.3 Basic Standards

Any amount of mailable material can be mailed in a USPS-produced Priority Mail flat-rate box. Only USPS-produced Priority Mail flat-rate boxes are eligible for the flat-rate box rate. All other applicable Priority Mail standards apply.

1.4 Package Preparation

The box flaps must be able to close within the normal folds. Tape may be applied to the flap and seams for closure or to reinforce the box, provided the design of the box is not enlarged by opening the sides of the box and taping or reconstructing the box in any way.

2.0 RATE

2.1 Priority Mail Flat-Rate Box Rate

The flat-rate box rate is $7.70. This initial rate is subject to change in a future rate proceeding.

2.2 Postage Payment Methods

Postage may be paid with postage stamps, meter stamps, Information-based indicia (IBI) meter, PC Postage system, or permit imprint, providing all the standards for the postage payment method are met.

Neva R. Watson,
Attorney, Legislative.

[FR Doc. 04-24555 Filed 11-1-04; 8:45 am]

BILLING CODE 7710-12-P